EXPORT-IMPORT BANK

Application for Final Commitment for a Long-Term Loan or Financial Guarantee in Excess of $100 Million: AP088514XX; Withdrawal.

AGENCY: Export-Import Bank of the United States.

ACTION: Notice; Withdrawal.

SUMMARY: This Notice is to inform the public of the withdrawal of two duplicate notices published on September 11, 2014 at 79 FR 54275 and 54276. The referenced notice originally published on September 8, 2014 at 79 FR 53195 remains in effect.

DATES: As of September 16, 2014 the duplicate notices published September 11, 2014 at 79 FR 54275 and 54276 are withdrawn.

Reference: AP088514XX.

Lloyd Ellis,
Program Specialist, Office of the General Counsel.

[FR Doc. 2014-22107 Filed 9-12-14; 11:15 am]

BILLING CODE 6690-01-P